DEPARTMENT OF THE INTERIOR

Fish and Wildlife Service

RIN 1018-AI55

Proposed Implementation Guidelines for Fiscal Year (FY) 2002 Landowner Incentive Program (Non Tribal Portion) for States, Territories and the District of Columbia

AGENCY: Fish and Wildlife Service, Interior.

ACTION: Notice; request for comments.

SUMMARY: The Department of the Interior and Related Agencies Appropriations Act 2002, allocated $40 million from the Land and Water Conservation Fund for conservation grants to States, the District of Columbia, Puerto Rico, Guam, the United States Virgin Islands, the Northern Mariana Islands, American Samoa, (hereafter referred to as States) and Tribes under a Landowner Incentive Program (LIP). The U.S. Fish and Wildlife Service (Service) will address the Tribal component of LIP under a separate Federal Register notice.

DATES: For consideration, interested parties should submit comments on the policies or the information collection in this announcement to the appropriate addresses below by July 8, 2002. For the information collection, OMB has up to 60 days to approve or disapprove information collections but may respond after 30 days.

ADDRESSES: For non-tribal LIP comments only, Kris E. LaMontagne, Chief, Division of Federal Aid, U.S. Fish and Wildlife Service, 4401 North Fairfax Drive, Suite 140, Arlington, VA 22203. For Paperwork Reduction Act, send comments for the Information Collection portion only to Interior Desk Officer, Attn: 1018-0109, Office of Management and Budget, 725 17th Street, NW., Washington, DC 20503, send a copy of the comment to U.S. Fish and Wildlife Service, Information Collection Clearance Officer, 4401 North Fairfax Drive, Room 224, Arlington, VA 22203.

FOR FURTHER INFORMATION CONTACT: For LIP grant information for the States contact Kris E. LaMontagne, Chief, Division of Federal Aid, at the above address or call (703) 358-2156. For LIP grant information for the Tribes contact Pat Durham, Office of Native American Liaison, U.S. Fish and Wildlife Service, 1849 C Street NW., Mail Stop 3251, Washington, DC 22203 or call (202) 208-4133. For information on the Paperwork Reduction Act Information Collection Approval contact Rebecca Mullin, U.S. Fish and Wildlife Service, Information Collection Clearance Officer, 4401 North Fairfax Drive, Room 224, Arlington, VA 22203.

SUPPLEMENTARY INFORMATION:

Background

The Service is soliciting comments from individuals, government agencies, the scientific community, environmental groups, industry, or any other interested party concerning the proposed program implementation. All comments received will be considered as long as they are not anonymous.

The Service will make all comments received in response to this Notice available for public review during regular business hours at the Division of Federal Aid in Arlington, Virginia (see ADDRESSES). If a respondent wishes his or her name or address to be withheld from public view, we will honor these wishes to the extent allowable by law, if they make this request known at the time of comment submission.

In recent years, natural resource managers have increasingly recognized that private lands play a pivotal role in linking or providing important habitats for fish, wildlife, and plant species. To protect and enhance these habitats through incentives for private landowners, Congress appropriated $40 million for the Service to administer a new Landowner Incentive Program (LIP) for States and Tribes. The Service will award grants to States for programs that enhance, protect, and/or restore habitats that benefit federally listed, proposed or candidate species, or other at risk species on private lands. A primary objective of LIP is to establish, or supplement existing, landowner incentive programs that provide technical and financial assistance, including habitat protection and restoration, to private landowners for the protection and management of habitat to benefit federally listed, proposed, or candidate species, or other at-risk species on private lands as stated in the appropriations language. LIP complements other federal private lands conservation programs that focus on the conservation of habitat.

Proposed Program Implementation Guidelines

Definitions

LIP is a grant program establishing a partnership among Federal and State governments and private landowners. The Federal role in implementation of LIP is to provide policy, guidance, funds, and oversight. The State role in implementation of LIP is to provide technical and financial assistance to private landowners for projects for the protection and management of habitat for species at risk. The private landowner role is to provide the habitat necessary to accomplish the objectives of LIP. For this program, we are defining species at risk as any Federally listed, proposed, or candidate species or other species of concern as officially determined and documented by a State. Private land is considered any non-government-owned land. A project is a discrete task to be undertaken by private landowners for the accomplishment of the defined LIP objectives.

A series of questions and answers follow which describe the proposed implementation guidelines for LIP.

Program Requirements

1. What is the objective of this program? the primary objective of this program is to establish or supplement State landowner incentive programs that protect and restore habitats on private lands, to benefit Federally listed, proposed, or candidate species or other species determined to the at risk, and provide technical and financial assistance to private landowners for habitat protection and restoration.

2. How will the Tribes participate in LIP? The Service is allocating $4 million of the total funds appropriated under LIP to Tribes for a competitive grant program to be described in a separate Federal Register notice. For Tribal LIP grant information contact Pat Durham, Office of Native American Liaison, U.S. Fish and Wildlife Service, 1849 C Street NW., Mail Stop 3251, Washington, DC 20240 or call (202) 208-4133.

3.Does LIP require plans like the State Wildlife Grant Program (FY 2002) and the Wildlife and Conservation and Restoration Program? No.

4. Who can apply for a LIP grant? The State agency with primary responsibility for fish and wildlife will be responsible for submitting all proposal to Federal Aid (FA). All other governmental entities, individuals, and organizations, including Tribes, may partner with or serve as a subgrantee to that fish and wildlife agency.

Fiscal Issues

5. How will the Service distribute the available $40 million? The Service will allocate $34.8 million for competitive grants to States, $4.0 million for Tribes, and $1.2 million for program administration by the Service.

6. What is the non-Federal match requirement for LIP grants? The Service requires a minimum of 25% non-Federal match for LIP grants. The Insular Areas of the U.S. Virgin Islands, Guam, American Samoa, and the Northern Mariana Islands are exempt form matching requirements for this program (based on 48 U.S.C. 1469a.(d)).

7. May the required non-Federal match be in-kind contributions? Yes. Allowable in-kind contributions are defined in 43 CFR part 12.64. The following website provides additional information www.nctc.fws.gov/fedaid/toolkit/4312toc.pdf.

Grant Administration

8. How will the Service award grants to States? The Service will use a two-tiered award system. Tier-1 grants will be assessed such that they meet minimum eligibility requirements. The Service will rank Tier-2 grants on proposed criteria contained in this notice and award grants after a national competition.

9. What are the intended objectives of Tier-1 grants? The Service intends that Tier-1 grants fund staff and associated support necessary to develop or enhance an existing landowner program. These programs should benefit private landowners and other partners to help manage and protect habitats that benefit species at risk through the development of plans, outreach, and associated activities that assist in the implementation of projects on private lands.

10. What are the eligibility requirements for Tier-1 grants? To receive a Tier-1 grant a State program must meet all of the following:

(a) Deliver technical and financial assistance to landowners;

(b) Provide for appropriate administrative functions such as fiscal and contractual accountability;

(c) Use LIP grants to supplement and not replace existing funds;

(d) Distribute funds to landowners through a fair and equitable system;

(e) Provide outreach and coordination that assists in administering the program; and

(f) Describe a process for the identification of species at risk; and

(g) Use obtainable and quantifiable performance measures that support Service goals. (http://planning.fws.gov/)

11. What are the intended objectives of Tier-2 grants? The objective of a Tier-2 grant should place a priority on the implementation of State programs that provide technical and financial assistance to the private landowner. Programs should emphasize the protection and restoration of habitats that benefit Federally listed, proposed or candidate species, or other species at risk on private lands. The Service generally intends a Tier-2 grant to fund the expansion of existing State landowner incentive programs or those created under Tier-1 grants.

12. What factors will be used to rank Tier-2 grants? The Service proposes to use the following criteria to rank Tier-2 proposals.

(a) Proposal provides clear and sufficient detail to describe the program. (0-10 points)

(b) Proposal provides adequate management systems for fiscal and contractual accountability (State), including annual monitoring and evaluation of progress toward desired project and program objectives (landowner and State). (0-10 points)

(c) Proposal must describe the State's fair and equitable system for fund distribution. For example, States have developed their own criteria to evaluate and prioritize their project proposals based on criteria such as species needs, priority habitats, compliance with State and federal requirements, cost/benefit components including the duration of costs and benefits, and feasibility of success and select projects for grant proposal funding based on their highest priority standing. (0-10 points)

(d) Proposal describes outreach efforts used to effect broad public awareness, support, and participation. (0-10 points)

(e) Number of identified species at risk to benefit from the proposal. Points increase from 0-10 as more species are identified.

(f) Percentage of State's total LIP program funds identified for use on private land projects as opposed to staff and related administrative support costs. Points increase from 0 to 10 as the percentage of funds identified for staff and related administrative costs decrease.

(g) Percentage of total non-Federal fund cost sharing. Points increase from 0 to 10 as the percentage of non-Federal cost sharing increases above the minimum cost share.

(h) Proposal provides obtainable and quantifiable performance measures that support Service performance goals. (http://planning.fws.gov/) (0-10 points)

13. Are there funding limits (caps) for LIP? Yes.

(a) The Service will cap Tier-1 grants at $180,000 for State fish and wildlife agencies, and $75,000 for Territories and the District of Columbia.

(b) In addition, no State may receive more than $1.74 million Tier 1 and Tier 2 funds combined from the FY 2002 appropriation.

14. May a State submit more than one proposal? States may submit one proposal each for Tier 1 and Tier 2 grants. However, funding limits still apply, as described in Question 13.

15. If, after awarding Tier-1 and Tier-2 grants, some FY 2002 funds remain, how will the Service make them available to the States? We will announce subsequent requests for proposals until all LIP funds are obligated. States that have not reached the cap may submit an additional proposal.

16. Will interest accrue to the account holding LIP funds and if so how will it be used? No. The LIP funds were not approved for investing, and as a result no interest will accrue to the account.

17. What administrative requirements must States comply with in regard to LIP? States must comply with 43 CFR Part 12 that provides the administrative regulations (www.nctc.fws.gov/fedaid/toolkit/4312toc.pdf.) and OMB Circular A-87 that provides cost principles (www.whitehouse.gov/omb/circulars).

18. What information must a State include in a grant proposal? LIP grant proposals must include an Application for Federal Assistance (SF-424) and must identify whether it is a Tier-1 or Tier-2 proposal. They must also include statements describing the need, objectives, expected results or benefits, approach or procedures, location, and estimated cost for the proposed work (43 CFR part 12). They should also clearly identify how each of the ranking criteria (Tier 2) and minimum requirements (Tier 1) are addressed and information on performance measures to be used. The SF-424 is available from FA at any Service Regional Office or at www.nctc.fws.gov/fedaid/toolkit/formsfil.pdf.

19. Where should a State send grant proposals? Once the final Federal Register notice is published, States should submit all LIP proposals to the Director, U.S. Fish and Wildlife Service, Division of Federal Aid, 4401 North Fairfax Drive, Suite 140, Arlington, VA 22203-1610.

20. When are proposals due to the Service? The Service will issue a Request For Proposals (RFP) in the Federal Register in the summer of 2002 which will give States 60 days to prepare and submit proposals from the date of the RFP.

21. What process will the Service use to evaluate and select proposals for funding? The Service will evaluate all proposals received by the 60 day deadline. Successful proposals will then be selected based on the final eligibility and selection criteria in the RFP, and will be subject to the final approval of the Assistant Secretary for Fish and Wildlife and Parks. All applicants will be notified of the results.

22. Once a proposal is selected for funding what additional grant documents must the applicant submit and to whom? In addition to the Application for Federal Assistance submitted with the original proposal, the Service requires the following documents: A Grant Agreement (Form 3-1552) and a schedule of work the State proposes to fund through this grant. Additionally, the Service, in cooperation with the applicants, must address Federal compliance issues, such as the National Environmental Policy Act, the National Historic Preservation Act, and the Endangered Species Act. Regional Office FA staff can assist in explaining the procedures and documentation necessary for meeting these Federal requirements. This additional documentation must be sent to the appropriate Regional Office where FA staff will approve the grant agreement to obligate funds. See the answer to Question 25 for Regional Office locations and www.nctc.fws.gov/fedaid/toolkit/fagabins.pdf for additional information.

23. What reporting requirements must States meet once funds are obligated under a LIP grant agreement? The Service requires an annual progress report and Financial Status Report (FSR) for grants longer than one year. This annual report should include a list of accomplishments including project details and their relationship to meeting Service performance goals. (www.planning.fws.gov/) A final performance report and FSR (SF-269) are due to the Regional Office within 90 days of the grant agreement ending date.

24. Will landowners who have LIP projects implemented on their property be required to leave project improvements in place for a specific period of time? States will need to address this issue in their grant proposals, landowner incentive programs, and agreements with individual landowners. Habitat improvements should be left in place in order to realize the desired benefits for species at risk.

25. Who can I contact in the Service about the LIP program in my local or regional area? Correspondence and telephone contacts for the Service are listed by Region below.

Region 1. Hawaii, Idaho, Oregon, Washington, California, Nevada, American Samoa, Guam, and Commonwealth of the Northern Mariana Islands. Regional Director, Division of Federal Aid, U.S. Fish and Wildlife Service, 911 NE 11th Avenue, Portland, Oregon 97232-4181, LIP Program Contact: Jim Greer, (503) 231-6128.

Region 2. Arizona, New Mexico, Oklahoma, and Texas. Regional Director, Division of Federal Aid, U.S. Fish and Wildlife Service, 500 Gold Avenue SW., Room 4012, Albuquerque, New Mexico, 87102, LIP Program Contact: Lonnie Schroeder, (505) 248-7457.

Region 3. Illinois, Indiana, Iowa, Michigan, Minnesota, Missouri, Ohio, and Wisconsin. Regional Director, Division of Federal Aid, U.S. Fish and Wildlife Service, Bishop Henry Whipple Federal Building, One Federal Drive, Fort Snelling, Minnesota 55111-4056, LIP Program Contact: Lucinda Corcoran, (612) 713-5135.

Region 4. Alabama, Arkansas, Florida, Georgia, Kentucky, Louisiana, Mississippi, North Carolina, South Carolina, Tennessee, Puerto Rico, and the U.S. Virgin Islands. Regional Director, Division of Federal Aid, U.S. Fish and Wildlife Service, 1875 Century Boulevard, Suite 200, Atlanta, Georgia 30345, LIP Program Contact: Marilyn Lawal, (404) 679-7277.

Region 5: Connecticut, Delaware, District of Columbia, Maine, Maryland, Massachusetts, New Hampshire, New Jersey, New York, Pennsylvania, Rhode Island, Vermont, Virginia, and West Virginia. Regional Director, Division of Federal Aid, U.S. Fish and Wildlife Service, 300 Westgate Center Drive, Hadley, MA 01035-9589, LIP Program Contact: Vaughn Douglas, (413) 253-8502.

Region 6. Colorado, Kansas, Montana, Nebraska, North Dakota, South Dakota, Utah, and Wyoming. Regional Director, Division of Federal Aid, U.S. Fish and Wildlife Service, P.O. Box 25486, Denver Federal Center, Denver, Colorado 80225-0486, LIP Program Contact: Jacque Richy, (303) 236-8155 ext. 236.

Region 7. Alaska, Regional Director, Division of Federal Aid, U.S. Fish and Wildlife Service, 1011 East Tudor Road, Anchorage, Alaska 99503-6199, LIP Program Contact: Nancy Fair (907) 786-3435.

Required Determinations

Regulatory Planning and Review

This policy document identifies proposed eligibility criteria and selection factors that may be used to award grants under the LIP. The Service developed this draft policy to ensure consistent and adequate evaluation of grant proposals that are voluntarily submitted and to help perspective applicants understand how the Service will award grants. According to Executive Order (E.O.) 12866, this policy document is significant and has been reviewed by the Office of Management and Budget in accordance with the four criteria discussed below.

(a) The LIP will not have an annual effect on the economy of $100 million or more or adversely affect in a material way the economy, a sector of the economy, productivity, jobs, the environment, public health or safety, or State or local communities. A total of $34,800,000 will be awarded in grants to State and Territorial wildlife agencies to provide financial and technical assistance to private landowners to carry out voluntary conservation actions. These funds will be used to pay for the administration and execution of actions such as restoring natural hydrology to streams or wetlands that support species of concern, fencing to exclude livestock from sensitive habitats, or planting native vegetation to restore degraded habitat. In addition, grants that are funded will generate other, secondary benefits, including benefits to natural systems (e.g., air, water) and local economies. All of these benefits are widely distributed and are not likely to be significant in any single location. It is likely that some residents where projects are initiated will experience some level of benefit, but quantifying these effects at this time is not possible. We do not expect the sum of all the benefits from this program, however, to have an annual effect on the economy of $100 million or more.

(b) We do not believe the LIP would create inconsistencies with other agencies' actions. Congress has given the Service the responsibility to administer the program.

(c) As a new grant program, the LIP would not materially alter the budgetary impact of entitlements, user fees, loan programs, or the rights and obligations of their recipients. This policy document establishes a new grant program that Public Law 107-63 authorizes, which should make greater resources available to applicants. The submission of grant proposals is completely voluntary, but necessary to receive benefits. When an applicant decides to submit a grant proposal, the proposed eligibility criteria and selection factors identified in this policy can be construed as requirements placed on the awarding of the grants. Additionally, we will place further requirements on grantees that are selected to receive funding under the LIP in order to obtain and retain the benefit they are seeking. These requirements include specific Federal financial management and reporting requirements and time commitments for maintaining habitat improvements or other activities described in the applicant's proposal.

(d) OMB had determined that this policy raises novel legal or policy issues, and, as a result, this document has undergone OMB review.

Regulatory flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on small entities (i.e., small businesses, small organizations, and small government jurisdictions). No regulatory flexibility analysis is required, however, if the head of the agency certifies the rule will not have a significant economic impact on a substantial number of small entities. SBREFA amended the Regulatory Flexibility Act to require Federal agencies to provide as statement of the factual basis for certifying that a rule will not have a significant economic impact on a substantial number of small entities. SBREFA also amended the RFA to require a certification statement. In this notice, we are certifying that the LIP will not have a significant economic impact on a substantial number of small entities for the reasons described below.

Small entities include organizations, such as independent nonprofit organizations and local governmental jurisdictions, including school boards and city and town governments that serve fewer than 50,000 residents, as well as small businesses. Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we consider the types of activities that might trigger impacts as a result of this progrma. In general, the term significant economic impact is meant to apply to a typical small business firm's business operations.

The types of effects this program could have on small entities include economic benefits resulting from the purchasing of supplies or labor to implement the grant proposals in relation to habitat improvements on private lands. By law, only State and Territorial wildlife agencies are eligible grant recipients. Since this program will be awarding a total of only $34,800,000 for grants throughout the United States to benefit wildlife habitat on private lands, a substantial number of small entities are unlikely to be affected. The benefits from this program will be spread over such a large area that is unlikely that any significant benefits will accrue to a significant number of entities in any area. In total, the distribution of the $34,800,000 will not create a significant economic benefit for small entities but, clearly a number of entities will receive some benefit.

Unfunded Mandates Reform Act (2 U.S.C. 1501 et seq.)

In accordance with the Unfunded Mandates Reform Act (2 U.S.C. 1501 August 25, 2000 et seq.):

(a) This policy will not “significantly or uniquely” affect small government entities.

(b) This policy will not produce a Federal mandate of $100 million or greater in any year; that is, it is not a “significant regulatory action” under the Unfunded Mandates Reform Act. The LIP establishes a grant program that States may participate in voluntarily.

Takings

In accordance with Executive Order 12630 (“Government Actions and Interference with Constitutionally Protected Private Property Rights”), the LIP does not have significant takings implications. State and Territorial agencies will work with private landowners who voluntarily request technical and financial assistance for species conservation on their lands.

Executive Order 13211

On May 18, 2001, the President issued and Executive Order (E.O. 13211) on regulations that significantly affect energy supply, distribution, and use. Executive Order 13211 requires agencies to prepare Statements of Energy Effects when undertaking certain actions. This policy is not expected to significantly affect energy supplies, distribution, or use. Therefore, this action is not a significant energy action and no Statement of Energy Effects is required.

Federalism

In accordance with Executive Order 13132, this policy document does not have any Federalism effects. A Federalism assessment is not required. Congress has directed that we administer grants under the LIP directly to the States and Territories. The States have the authority to decide which project proposals received from private landowners to forward to the Service for consideration.

Civil Justice Reform

In accordance with Executive Order 12988, the LIP does not unduly burden the judicial system and does meet the requirements of sections 3(a) and 3(b)(2) of the Order. With the guidance in the policy document, the Service will clarify the requirements of the LIP to applicants that voluntarily submit grant proposals.

National Environmental Policy Act

This draft policy does not constitute a major Federal action significantly affecting the quality of the human environment. The Service has determined that the issuance of the draft policy is categorically excluded under the Department of the Interior's NEPA procedures in 516 DM 2, Appendix 1 and 516 DM 6, Appendix 1. The Service will ensure that grants that are funded through the LIP are in compliance with NEPA.

Government-to-Government Relationship With Tribes

In accordance with the President's memorandum of April 29, 1994, “Government to Government Relations With Native American Tribal Governments” (59 FR 22951), E.O. 13175, and the Department of the Interior's manual at 512 DM 2, we readily acknowledge our responsibility to communicate meaningfully with federally recognized Tribes on a government-to-government basis.

This policy document deals only with the LIP program as it relates to States and Territories. Under Public Law 107-63, Title I, Tribes are also eligible grantees. The Service is preparing a separate policy document which will be applicable to the tribal component of the LIP program.

Paperwork Reduction Act

In accordance with the Paperwork Reduction Act (44 U.S.C. 3501) please note the following information. This information collection is authorized by the Federal AId in Sport Fish Restoration Act (16 U.S.C. 777-7771), Federal Aid in Wildlife Restoration Act (16 U.S.C. 669-669i), Partnerships for Wildlife Act (16 U.S.C. 3741), the Coastal Wetlands Planning, Protection and Restoration Act (16 U.S.C. 3954), the Endangered Species Act (16 U.S.C. 1531-1544) and Department of the Interior and Related Agencies Appropriations Acts.

This information collection covers the collection of proposals, budgets, financial and performance reports related to grants issued under the above Acts. Potential grantees are expected to submit complete proposals addressing the ranking factors discussed elsewhere in this notice. We are collecting this information to evaluate programs and projects relevant to the eligibility, substantiality, relative value of each in order to rank the proposals for competitive awards. We are collecting budget information from applicants in order to make awards of grants under these programs. We are collecting financial and performance information to track costs and accomplishments of these grants programs. We are also collecting performance information as it relates to the President's goals and objectives for the department of the Interior and the Fish and Wildlife Service. Completion of these application and reporting requirements will involve a paperwork burden of approximately 80 hours per grant proposal. This does not include any burden hours previously approved by OMB for standard or U.S. Fish and Wildlife Service forms.

Your response to this information collection is required to receive benefits in the form of a Grant, and does not carry any premise of confidentiality. An agency may not conduct or sponsor; and a person is not required to respond to, a collection of information unless it displays a currently valid OMB control number: This information collection was previously approved by OMB and assigned control number 1018-0109. We are citing additional authorities and requesting an increase in the total burden hours through this approval request. Interested parties can see this proposed information collection at this url: http://federalaid.fws.gov/grants/Proposed_Federal_Aid_Grants_Application_Booklet.pdf.

The Service submitted the information collection requirements to OMB for review and approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and (4) ways to minimize the burden of collection of information on respondents, including through the use of appropriate automated, electronic, mechanical, or other technological collection techniques or other forms of information technology. Comments may be submitted to the address listed in ADDRESSES section near the beginning of this notice.

Authority

This notice is published under the authority of the Department of the Interior and Related Agencies Appropriations Act, 2002, H.R. 2217/Public Law 107-63.

Dated: June 3, 2002.
Paul Hoffman,
Acting Assistant Secretary for Fish and Wildlife and Parks.

[FR Doc. 02-14257 Filed 6-6-02; 8:45 am]

BILLING CODE 4310-55-M